NATIONAL SCIENCE FOUNDATION

Notice of Permit Applications Received Under the Antarctic Conservation Act of 1978 (Public Law 95-541)

AGENCY: National Science Foundation.

ACTION: Notice of Permit Applications Received under the Antarctic Conservation Act of 1978, P.L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to these permit applications by June 11, 2000. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 306-1030.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

The applications received are as follows:

1. Applicant: Permit Application No. 2001-008, Norbert Wu, Norbert Wu Productions, 1065 Sinex Avenue, Pacific Grove, CA 93950.

Activity for Which Permit is Requested: Enter Antarctic Specially Protected Area. The applicant is part of the Artists and Writers Program of the U.S. Antarctic Program. He proposes to enter the outskirts of Cape Crozier (ASPA #124) to conclude filming that are initiated last season under his grant, “A Photographic Survey of Antarctic Marine Species” and to finish a PBS Nature documentary entitled “Under Antarctic Ice”. The applicant plans to conduct general photography and filming of Adelie and Emperor penguins, leopard seals, Orcas and minke whales. Filming will be restricted to topside photography and cinematography. Visits to the site will be selected to target Adelie penguin events (nesting, egg tending and egg hatching) during peak population at the rookery. The applicant plans to skirt the Adelie and Emperor penguin rookeries and not enter into the midst of the colony. Scientific research has shown that Adelie penguins are most active between 4:00am and 10:00am. Therefore the applicant intends to camp near Cape Crozier to take advantage of these timeframes. Access to the area will be by helicopter which will land at the designated landing site as outlined in the site's management plan.

Location: ASPA 124—Cape Crozier, Ross Island.

Dates: August 1, 2000 to February 28, 2001.

2. Applicant: Permit Application No. 2001-009, Terry J. Wilson, Department of Geological Sciences, Ohio State University, 125 South Oval Mall, Columbus, OH 43210.

Activity for Which Permit is Requested: Enter Antarctic Specially Protected Area. Cope Crozier is the largest ice-free volcanic area on Ross Island, with a large number of well exposed volcanic cones and fissures. It is a primary site for mapping volcanic alignments and stress directions in eastern Ross Island. The applicant plans to conduct aerial observations and photography of the volcanic vents using a helicopter. In addition, the applicant plans to conduct short-duration ground observations on selected cones. The objectives of the research can be achieved without flying over or entering the immediate proximity of the Adelie and Emperor penguin rookeries at Cape Crozier.

Location: ASPA 124—Cape Crozier, Ross Island.

Dates: December 4, 2000 to January 4, 2001.

3. Applicant: Permit Application No. 2001-010, Tom Yelvington, Raytheon Polar Service Company, 61 Inverness Drive East, Suite 300 Englewood, CO 80112.

Activity for Which Permit is Requested: Enter Antarctic Specially Protected Area. The applicant proposes to enter Byers Peninsula (ASPA #126) on Livingston Island for the purpose of reconnoitering landing sites and camp sites along the southern shores. Byers Peninsula is a key site of interest for a scientific project that will be conducted March 2001 through May 2001. Because of the uncertainties associated with zodiac-supported field camps, it is essential to ascertain in advance where the landings with the researchers and supplies might be made, and where the tent camp might be established. The reconnaissance of Byers Peninsula will be conducted during the next few months based on the schedule of the U.S. Antarctic Program's research vessel operating in the Peninsula. It is estimated that only 4-5 people will be needed to scout the southern shores for the appropriate sites.

Location: ASPA 126—Byers Peninsula, Livingston Island, South Shetland Islands.

Dates: June 1, 2000 to March 31, 2001.

Nadene G. Kennedy,
Permit Officer, Office of Polar Programs.

[FR Doc. 00-11963 Filed 5-11-00; 8:45 am]

BILLING CODE 7555-01-M